SECURITIES AND EXCHANGE COMMISSION

Soil Biogenics Ltd., File No. 500-1; Order of Suspension of Trading

August 14, 2013.

It appears to the Securities and Exchange Commission that there is a lack of current and accurate information concerning the securities of Soil Biogenics Ltd. because it has not filed any periodic reports since the period ended December 31, 2006.

The Commission is of the opinion that the public interest and the protection of investors require a suspension of trading in the securities of the above-listed company. Therefore, it is ordered, pursuant to Section 12(k) of the Securities Exchange Act of 1934, that trading in the securities of the above-listed company is suspended for the period from 9:30 a.m. EDT on August 14, 2013, through 11:59 p.m. EDT on August 27, 2013.

By the Commission.
Jill M. Peterson,
Assistant Secretary.

[FR Doc. 2013-20101 Filed 8-14-13; 11:15 am]

BILLING CODE 8011-01-P